DEPARTMENT OF ENERGY

Federal Energy Regulatory Commission

[Docket No. EL04-117-000, et al.]

Kentucky Utilities Company, et al.; Electric Rate and Corporate Filings

July 22, 2004.

The following filings have been made with the Commission. The filings are listed in ascending order within each docket classification.

1. Kentucky Utilities Company

[Docket No. EL04-117-000]

Take notice that on July 9, 2004, Kentucky Utilities Company (KU) filed a Petition for Declaratory Order pursuant to Rule 207 of the Rules of Practice and Procedure (18 CFR 385.207) of the Commission's regions. KU requests that the Commission issue a declaratory order stating that sections 205 and 206 of the Federal Power Act (16 U.S.C. 824d, e(2000)) preempt significant portions of a lawsuit recently filed in the Commonwealth of Kentucky's Daviess Circuit Court by the City of Owensboro, Kentucky and the City Utility Commission of the City of Owensboro, Kentucky. KU also requests that the Commission address the merits of certain issues raised in that lawsuit.

Comment Date: 5 p.m. eastern time on August 12, 2004.

2. Volunteer Energy Services, Inc.

[Docket No. ER04-937-001]

Take notice that on July 19, 2004, Volunteer Energy Services, Inc. (VESI) submitted amendment to its June 17, 2004, filing in Docket No. ER04-937-000, of a Petition for Acceptance of Initial Rate Schedule, Waivers and Blanket Authority.

Comment Date: 5 p.m. eastern time on August 9, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive email notification when a document is added to a subscribed docket(s). For assistance with any FERC Online service, please e-mail FERCOnlineSupport@ferc.gov, or call (866) 208-3676 (toll free). For TTY, call (202) 502-8659.

Comment Date: 5 p.m. eastern time on August 12, 2004.
Magalie R. Salas,
Secretary.

[FR Doc. E4-1701 Filed 7-29-04; 8:45 am]

BILLING CODE 6717-01-P